DEPARTMENT OF DEFENSE

Department of the Army

[Docket ID: USA-2016-HQ-0040]

Proposed Collection; Comment Request

AGENCY: Office of Administrative Assistant to the Secretary of the Army, DoD.

ACTION: Notice.

SUMMARY: In compliance with the Paperwork Reduction Act of 1995, the Office of Administrative Assistant to the Secretary of the Army (OAA-RPA) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 6, 2017.

ADDRESSES: You may submit comments, identified by docket number and title, by any of the following methods:

• Federal eRulemaking Portal: http://www.regulations.gov. Follow the instructions for submitting comments.

• Mail: Department of Defense, Office of the Deputy Chief Management Officer, Directorate for Oversight and Compliance, Regulatory and Advisory Committee Division, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the U.S. Army ROTC Cadet Command, ATTN: ATCC-OP-I-S (Timothy Borgerding), 204 1st Cavalry Regiment Road, Building 1002, Fort Knox, KY 40121-2123, or call the Department of the Army Records Clearance Officer at (703) 428-6440.

SUPPLEMENTARY INFORMATION:

Title; Associated Form; and OMB Number: U.S. Army ROTC 4-Year College Scholarship Application; OMB Control Number 0702-0073.

Needs and Uses: This information collection required is necessary to obtain applications for the Army ROTC Program, which produces approximately 80 percent of the newly commissioned officers for the U.S. Army. The Army ROTC Scholarship is an incentive to attract men and women to pursue educational degrees in the academic disciplines required by the Army.

Affected Public: Individuals or households.

Annual Burden Hours: 9,037.

Number of Respondents: 12,049.

Responses per Respondent: 1.

Annual Responses: 12,049.

Average Burden per Response: 45 minutes.

Frequency: Annually.

The applications are available to applicants that have 4-years of college remaining and will be under the age of 31 at the projected time of graduation. Once collection of all required application data is completed, Headquarters, Cadet Command reviews, screens, boards, and selects the scholarship recipients. The collected application data and information provides the basis for the scholarship award.

Dated: December 29, 2016.
Aaron Siegel,
Alternate OSD Federal Register Liaison Officer, Department of Defense.

[FR Doc. 2016-31934 Filed 1-4-17; 8:45 am]

BILLING CODE 5001-06-P